NUCLEAR REGULATORY COMMISSION

[Docket No. 50-483; NRC-2012-0275]

Callaway Plant, Unit 1; Application for Amendment to Facility Operating License

AGENCY: Nuclear Regulatory Commission.

ACTION: License amendment application; withdrawal.

ADDRESSES: Please refer to Docket ID NRC-2012-0275 when contacting the NRC about the availability of information regarding this document. You may access information related to this document, which the NRC possesses and are publicly available, using any of the following methods:

• Federal Rulemaking Web site: Go to http://www.regulations.gov and search for Docket ID NRC-2012-0275. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Carl F. Lyon, Project Manager, Office of Nuclear Reactor Regulation, U.S. Nuclear Regulatory Commission, Washington, DC 20555-0001; telephone: 301-415-2296; email: Fred.Lyon@nrc.gov.

SUPPLEMENTARY INFORMATION: The U.S. Nuclear Regulatory Commission (NRC) has granted the request of Union Electric Co., (the licensee) to withdraw its application dated June 30, 2011 (ADAMS Accession No. ML111820367), as supplemented by letter dated September 10, 2012 (ADAMS Accession No. ML1225A040), for proposed amendment to Facility Operating License No. NPF-30 for the Callaway Plant, Unit 1, located in Callaway County, Missouri.

The proposed amendment would have revised Technical Specification (TS) 3.6.6, “Containment Spray and Cooling Systems.” Specifically, the amendment would have revised Surveillance Requirement (SR) 3.6.6.3 for verifying the minimum required containment cooling train cooling water flow rate. Rather than require verifying each containment cooling train has a cooling water flow rate greater than or equal to 2200 gallons per minute, TS SR 3.6.6.3 would have been revised to require verification that the flow rate is capable of being “within limits” for achieving the heat removal rate assumed in the Callaway Plant safety analyses.

The Commission had previously issued a Notice of Consideration of Issuance of Amendment published in the Federal Register on November 1, 2011 (76 FR 67491). However, by letter dated October 26, 2012 (ADAMS Accession No. ML12305A202), the licensee withdrew the proposed change.

For further details with respect to this action, see the application for amendment dated June 30, 2011, the supplement dated September 10, 2012, and the license's letter dated October 26, 2012, which withdrew the application for license amendment.

Dated at Rockville, Maryland, this 5th day of November 2012.
For the Nuclear Regulatory Commission.
Carl F. Lyon,
Project Manager, Plant Licensing Branch IV, Division of Operating Reactor Licensing, Office of Nuclear Reactor Regulation.

[FR Doc. 2012-27626 Filed 11-13-12; 8:45 am]

BILLING CODE 7590-01-P